DEPARTMENT OF EDUCATION

National Institute on Disability and Rehabilitation Research; Long-Range Plan for Fiscal Years 2013-2017

AGENCY: Office of Special Education and Rehabilitative Services, Department of Education.

ACTION: Notice.

SUMMARY: The Assistant Secretary for Special Education and Rehabilitative Services announces the publication of the final Long-Range Plan for Fiscal Years (FY) 2013-2017 (Plan) for the National Institute on Disability and Rehabilitation Services (NIDRR). This Plan provides an overview of NIDRR's goals and objectives, identifies contributions that NIDRR research has made to improve the lives of individuals with disabilities, and presents NIDRR's specific goals and objectives for the next five years.

DATES: This Plan is effective May 6, 2013.

FOR FURTHER INFORMATION CONTACT: Marlene Spencer, U.S. Department of Education, 400 Maryland Avenue SW., room 5133, Potomac Center Plaza (PCP), Washington, DC 20202-2700. Telephone: (202) 245-7532 or by email: marlene.spencer@ed.gov.

If you use a telecommunications device for the deaf (TDD) or text telephone (TTY), call the Federal Relay Service (FRS), toll free, at 1-800-877-8339.

SUPPLEMENTARY INFORMATION: The Plan presents a five-year research agenda anchored in NIDRR's legislative authority, consumer goals, and scientific initiatives. Section 202(h) of the Rehabilitation Act of 1973, as amended (Act), requires NIDRR's Director to prepare the Plan and establishes the Plan's purposes as follows:

(1) To identify activities to be conducted under NIDRR's authority “respecting the full inclusion and integration into society of individuals with disabilities.”

(2) To identify funding priorities for the activities to be conducted.

(3) To specify goals and timetables for the activities to be conducted by NIDRR over the next five years.

NIDRR published a notice of proposed long-range plan for FY 2013-2017 (proposed Plan) on April 18, 2012 (70 FR 23231-23237). The Act requires that NIDRR consider all public comments received regarding the proposed Plan and then transmit the final Plan to Congress.

Analysis of Comments and Changes: In response to our invitation in the notice of proposed Plan, NIDRR received 145 comments. We categorize 127 of these comments into 15 subject areas and provide responses to comments that suggested changes in the proposed Plan. We do not address the 18 other general comments because they do not propose changes to the Plan. Generally, we do not address technical and other minor changes. An analysis of the comments and changes in the Plan since publication of the proposed Plan is published as an appendix at the end of this notice.

Final Long-Range Plan

National Institute on Disability and Rehabilitation Long-Range Plan for Fiscal Years 2013-2017

Preface

The introductory section of the National Institute on Disability and Rehabilitation Research (NIDRR) Long-Range Plan for Fiscal Years (FY) 2013-2017 (Plan) provides basic background about NIDRR and the Plan. The background explains NIDRR's mission, its intention for the Plan, and how the Plan will shape NIDRR's priorities. The second section of the Plan provides a brief summary of NIDRR's goals and objectives. The third section of the Plan provides background information about NIDRR's legislative mandate and purpose, NIDRR's applied approach to disability and rehabilitation research, how that approach is improving the lives of individuals with disabilities, and how NIDRR's grant mechanisms will structure NIDRR's research and development programs. Section four of the Plan details NIDRR's goals and objectives for the next five years.

I. Introduction

NIDRR has a broad and complex mission. NIDRR must support the generation of new knowledge and promote its effective use to (1) improve the abilities of individuals with disabilities to participate in community activities of their choice and (2) enhance society's capacity to provide opportunities and accommodations for these individuals. NIDRR fulfills its mission through research, development, and dissemination and related activities designed to contribute to the independence, inclusion, employment, and health and function of individuals of all ages with all types and degrees of disability, including low-incidence disability. As the number of Americans with disabilities is projected to increase substantially over the next two decades, the importance of fulfilling NIDRR's mission will only grow (Institute of Medicine, 2007. The future of disability in America. Washington, DC: National Academies Press).

NIDRR's Plan includes priorities, goals, and objectives to make manifest the direction that NIDRR intends for FYs 2013 through 2017. NIDRR will begin implementing all goals at the beginning of FY 2013. Over the life of the Plan, NIDRR will further refine the priorities, goals, objectives, and timelines to reflect the evolution of science and technology, the needs of individuals with disabilities, and the input of interested stakeholders, as the completion of the funding cycles of current centers and projects allow. Proposed refinements to this Plan will be published in the Federal Register for public comment and review. NIDRR will also establish and actively solicit the guidance of the Rehabilitation Research Advisory Council (RRAC), which is authorized under section 205(a) of the Rehabilitation Act of 1973, as amended (Act). The RRAC will engage individuals with disabilities and, as appropriate, their representatives; community rehabilitation and service professionals, including providers of assistive technologies; rehabilitation researchers and engineers; and other stakeholders. With this input, the RRAC will advise NIDRR as to how its programs may better serve its established principles. The three principles that NIDRR will employ to guide the implementation of the Plan and the administration of its programs are balance, quality, and relevance.

“Balance” refers to the management of NIDRR's resource allocations across three dimensions: (1) The three outcome domains of individual well-being (i.e., employment, community living and participation, and health and function); (2) populations of focus; and (3) who, whether NIDRR or the grant applicant, defines the specific approach to a disability or rehabilitation research topic.

“Quality” refers to the scientific merit of the research and development activities, whatever the method employed, and the appropriateness of the methods to the topic, question, or problem being addressed.

“Relevance” refers to the likelihood that proposed research and development activities will make a substantial contribution to the well-being of individuals with disabilities, recognizing that the benefits of such activities may not always be direct or immediate.

NIDRR's peer review process will help increase the quality and relevance of NIDRR-funded research and development activities. NIDRR is committed to the goal that every eligible application for NIDRR funding will be reviewed by a knowledgeable panel of experts in research, development, policy, services and supports, and other areas appropriate to the topic, including individuals with disabilities and, as appropriate, family members.

NIDRR's priorities will be informed by assessments of the state of the science, policy, and practice, the advice of the RRAC, and the public's response to proposed priorities. NIDRR's portfolio of research and development activities will range from the identification of the needs and opportunities of individuals with disabilities to the widespread implementation of effective, evidence-based policies, practices, and products that respond to those needs and opportunities. NIDRR recognizes that the development of effective, evidence-based policies, practices, and products is as dependent on the exploration and description stage of research and development as it is on experimental and quasi-experimental trials and other well-designed tests of potentially effective interventions, programs, and products.

II. Summary of NIDRR's Goals and Objectives

NIDRR will maintain a balanced portfolio of high-quality research and development centers and projects that address the most important problems and issues affecting individuals with disabilities and their families. The following is a summary of NIDRR's goals and objectives for FY 2013 through FY 2017.

Goal 1: Create a portfolio of research, development, and other activities that balances domains, populations of focus, and who, whether NIDRR or the grant applicant, defines the specific approach to a disability or rehabilitation research topic.

• Establish a balanced distribution of priorities focused on improved outcomes in the domains of employment, community living and participation, and health and function.

• Establish a balanced distribution of priorities to address the needs of individuals with different disabilities, personal characteristics, and social circumstances.

• Expand field-initiated research and development opportunities to support innovation.

Goal 2: Support centers and projects that conduct well-designed research and development activities using a range of appropriate methods.

• Adopt stages-of-research and stages-of-development frameworks that will enhance NIDRR's efforts to generate evidence-based policies, practices, and products.

• Support a variety of research and development approaches, as appropriate, to important topics and questions.

• Provide for the training of emerging talent and leadership in research and development.

Goal 3: Promote the effective use of knowledge in areas of importance to individuals with disabilities and their families.

• Increase and improve the capabilities and activities of NIDRR research and engineering centers and projects to ensure the accessibility and effectiveness of their work products.

• Increase the use of input from stakeholders by NIDRR and NIDRR-funded centers and projects.

• Establish priorities that inform systems and policy development, as well as interventions and inventions, to improve individual outcomes.

• Support research and development activities of relevance that cut across disability categories and NIDRR's three domains.

• Maintain effective ongoing investments and invest in new initiatives of promise to address topics of importance to individuals with disabilities and their families.

Goal 4: Improve program administration.

• Streamline NIDRR's processes for establishing and publishing priorities for grant competitions.

• Establish and implement a consistent schedule of competitions and peer reviews so that competition announcements are predictable for potential applicants and peer reviewers.

• Improve NIDRR's peer review processes.

III. Background

NIDRR was established by the 1978 amendments to the Act. As specified in section 200 of the Act (29 U.S.C. 760), NIDRR's purpose is to: (a) Provide for research, demonstration projects, training, and related activities to maximize the full inclusion and integration into society, employment, independent living, family support, and economic and social self-sufficiency of individuals with disabilities of all ages, with particular emphasis on improving the effectiveness of services authorized under the Act; (b) provide for a comprehensive and coordinated approach to the support and conduct of such research, demonstration projects, training, and related activities; (c) promote the transfer of rehabilitation technology to individuals with disabilities; (d) ensure the widespread distribution, in usable formats, of practical scientific and technological information; (e) identify effective strategies to enhance the opportunities of individuals with disabilities to engage in employment, including employment involving telecommuting and self-employment; and (f) increase opportunities for researchers who are members of traditionally underserved populations, including researchers who are members of minority groups and researchers who are individuals with disabilities.

NIDRR is led by a director within the Office of Special Education and Rehabilitative Services (OSERS) at the U.S. Department of Education. OSERS has two other components: the Rehabilitation Services Administration and the Office of Special Education Programs. NIDRR works closely with these offices and other disability-related offices and agencies across the Federal government.

NIDRR supports a wide range of rehabilitation research, development, and other activities designed to assist individuals with disabilities to achieve long-term outcomes such as independence, community participation, employment, and good health. To maximize its effectiveness in achieving such outcomes, NIDRR research and development activities focus on the complex interaction of personal, environmental, and supporting factors, including assistive technologies. In its practical and applied focus, NIDRR seeks to play a pivotal role in the relationship between the producers and consumers of knowledge.

The value of NIDRR's applied focus on research and development can be found in important advances in knowledge, practice, and public policies that have derived fully or partially from it. In recent years these have included, but not been limited to, the development of principles, standards, and applications of universal design; the development of standards and applications to enhance accessibility of the World Wide Web and the design of accessibility features for information technology devices, such as computers and cell phones; widespread applications of technology to rehabilitation including telerehabilitation and national Internet-based workforce training systems; improved understanding and treatments of the long-term consequences of spinal cord injury, burn injury, and traumatic brain injury; development of rehabilitation and community supports for individuals recovering from psychiatric conditions; understanding of the costs and outcomes of deinstitutionalization and the development of community supports for individuals with disabilities; better understanding of factors and practices contributing to the employment experience of individuals with disabilities; improvements in way finding and other mobility aides for individuals with cognitive or sensory conditions; and ongoing analysis of national disability statistics to guide policy and practice. NIDRR is committed to maintaining its focus on practical applications of research, development, knowledge translation, capacity building, technical assistance, and information dissemination to improve the lives of individuals with disabilities and their families.

NIDRR currently employs nine mechanisms to make grant awards. Funding allocation within these mechanisms depends on the overall funding available to NIDRR, NIDRR's topical priorities for that year, and the size of the funding commitments for grants awarded in previous years. On average, about 25 percent of NIDRR's grants end each year. NIDRR's grant mechanisms are as follows:

• Rehabilitation Research and Training Centers (RRTCs) conduct coordinated, advanced research to maximize the health and function of, the social and economic independence of, and rehabilitation methods and service delivery systems for individuals with disabilities. RRTCs also serve as national resource centers in their areas of focus.

• Rehabilitation Engineering Research Centers (RERCs) conduct programs of advanced engineering and technical research and development activities designed to enhance opportunities, solve rehabilitation problems, and remove environmental barriers for individuals with disabilities. RERCs provide for the cost-effective delivery and use of assistive technology devices.

• Disability and Rehabilitation Research Projects (DRRPs) emphasize a broad range of research and development projects, training, and knowledge translation on rehabilitation topics. DRRPs have ranged from collecting longitudinal data on spinal cord, traumatic brain, and burn injuries to studying the effects of health care coordination.

• Americans with Disabilities Act (ADA) National Network Regional Centers provide information, technical assistance, and training in areas related to the mandates of the ADA. These centers form a national network and assist disability organizations, individuals with disabilities, businesses, public agencies, and the general public in understanding and fulfilling the purposes of the ADA.

• Model Systems in Spinal Cord Injury, Traumatic Brain Injury, and Burn Injury provide model rehabilitation services and supports to individuals after injury. The Model Systems conduct center-specific research projects and a collaborative program of research, longitudinal data collection, and dissemination.

• Field-Initiated Projects address disability and rehabilitation topics in promising and innovative ways based on the applicant's perception of needed research or development. These projects attend to a wide range of topics and target populations, including low-incidence populations.

• Advanced Rehabilitation Research Training Projects provide support to institutions of higher education to recruit qualified post-doctoral individuals with clinical, management, or basic research experience and prepare them for careers in disability and rehabilitation research.

• Switzer Research Fellowships give individual researchers opportunities to develop new ideas, gain research experience, and concentrate on specific lines of research. NIDRR supports Switzer Fellows for one year as they conduct independent research projects.

• Small Business Innovation Research (SBIR) grants are administered by NIDRR as a part of the larger mandatory Federal SBIR program. NIDRR's SBIR grants support the design and production of new assistive and rehabilitation technologies, including the research, development, and dissemination of, and training with respect to, products with commercial potential and with benefit to individuals with disabilities. This two-phase program takes a rehabilitation-related product from development toward market readiness.

NIDRR funds are awarded competitively on the basis of advice received through a peer review process to ensure the quality and integrity of the NIDRR portfolio. Researchers, methodologists, rehabilitation engineers, and other experts, including individuals with disabilities and their families, serve on panels made up of three to seven individuals. These experts review proposals according to the selection criteria in the application package for the competition. NIDRR's peer review process is designed to ensure the scientific quality of NIDRR's portfolio, its contributions to the well-being of individuals with disabilities, and its relevance to the needs of the disability and rehabilitation communities. NIDRR continues to focus on improving the quality of its peer review process, including by addressing the specific recommendations for the peer review process made in the November 2011 review of NIDRR by the National Academy of Sciences (NAS)/National Research Council (2011). (Review of disability and rehabilitation research: NIDRR grantmaking processes and products. Washington, DC: National Academies Press.)

IV. Goals and Objectives

NIDRR will pursue the following goals and objectives for FY 2013 through FY 2017.

Goal 1: Create a portfolio of research, development, and other activities that is balanced in terms of domains, populations of focus, and who, whether NIDRR or the grant applicant, defines the specific approach to a disability or rehabilitation research topic.

Objective 1.1—Establish a balanced distribution of priorities focused on improved outcomes in the domains of employment, community living and participation, and health and function.

One of the congressional findings in Sec. 2.(a)(3) of the Act states that “disability is a natural part of the human experience and in no way diminishes the right of individuals to (A) Live independently; (B) enjoy self-determination; (C) make choices; (D) contribute to society; (E) pursue meaningful careers; and (F) enjoy full inclusion and integration in the * * * mainstream of American society.” An individual's opportunity to enjoy these rights depends on an interaction between the individual and the physical and social environment. Within each of its domains, NIDRR will support research, development, and other activities that gather and use knowledge of systems, environments, technologies, and individual characteristics, goals, and behaviors to support the fulfillment of such rights.

Employment

Employment and earnings are essential to independence, self-determination, and contribution to society. NIDRR will support centers and projects to address unemployment, underemployment, and unnecessary dependency on public benefits. NIDRR will support activities to improve opportunities for employment that are consistent with an individual's abilities, interests, and career aspirations. NIDRR will also support research and development activities that examine employment policies and practices, vocational rehabilitation services, and technologies and accommodations that contribute to improved employment and career outcomes for individuals with disabilities.

Community Living and Participation

NIDRR is committed to improving the opportunities and abilities of individuals with disabilities to live as integrated members of their communities and to participate in community activities of their choice. NIDRR will fund activities consistent with the underlying principles of the independent living programs authorized under the Act and the ADA as affirmed in the U.S. Supreme Court's 1999 decision in Olmstead v. L.C., 527 U.S. 581. NIDRR will support centers and projects to increase community living and participation through improvements in policy, services and support delivery, assistive technologies, environmental modifications, and person-centered planning and therapeutic interventions.

Health and Function

Maximizing health and function among people with disabilities is critical to achieving the goals of employment, community living and participation, and individual well-being across the lifespan. NIDRR will support centers and projects on health and function that improve understanding of the health status, health needs, and health care access of individuals with disabilities. These centers and projects will also develop and test interventions, including public policy interventions, to improve health outcomes, increase or maintain functional abilities, and contribute to more effective medical rehabilitation and long-term services and supports, including integrated health and long-term service and support approaches.

Objective 1.2—Establish a balanced distribution of priorities to address the needs of individuals with different disabilities, personal characteristics, and social circumstances.

Rehabilitation Research and Training Centers (RRTCs)

NIDRR will establish RRTCs, as authorized in the Act. In addition to being productive centers of relevant and well-designed research, these RRTCs will serve as: (1) National resource centers for individuals with disabilities and their representatives, families, service providers, policymakers, and others; (2) informational and technical assistance resources to individuals with disabilities and their representatives, families, service providers, policymakers, and others through conferences, workshops, public education programs, in-service training programs, and similar activities; and (3) centers of data gathering, analysis, and knowledge translation to address systems and policy issues that affect individuals with disabilities of all ages.

The RRTCs will address the needs of individuals of all ages with psychiatric, intellectual and developmental, and physical disabilities, as well as individuals with significant impairments of vision and hearing. These centers will identify practices associated with positive outcomes across NIDRR's domains and assess the status and effectiveness of programs and service systems in achieving positive outcomes.

NIDRR will also establish RRTCs in such areas as:

• Vocational rehabilitation.

• Rural rehabilitation.

• Rehabilitation of individuals from minority backgrounds.

• Families with members with disabilities.

• Disability statistics.

Rehabilitation Engineering and Research Centers (RERCs)

NIDRR will support RERCs to address the barriers confronted by individuals with disabilities in all aspects of their lives. These RERCs will address the needs of a wide range of individuals with disabilities, including those with sensory and cognitive impairments. They will address barriers confronted by persons with disabilities in employment, community living and participation, and health and function through technologies that accommodate communication, mobility, sensory impairments, and other limitations.

NIDRR will establish RERCs that will address priorities within the following four areas of rehabilitation engineering:

• Rehabilitation strategies, techniques, and interventions.

• Information and communication technologies.

• Individual mobility and manipulation.

• Physical access and transportation.

Objective 1.3—Expand field-initiated research and development opportunities to support innovation.

In order to take advantage of the field's expertise, knowledge, and creativity, NIDRR plans to provide an increased number of field-initiated opportunities for research, demonstration, and development of technological solutions to significant problems faced by individuals with disabilities. These projects may choose to focus on specific disability populations, including low-incidence populations. After consulting with the RRAC, publishing the proposed priorities for comment, and considering those comments, NIDRR will publish final priorities that include broad topical areas from which applicants will have the discretion to define a specific approach. Applicants also may propose cross-domain projects that have the potential to make a substantial contribution to solving significant problems.

Goal 2: Support centers and projects that conduct well-designed research and development activities using a range of appropriate methods.

Objective 2.1—Adopt a stages-of-research framework that will enhance its efforts to generate evidence-based practices.

NIDRR will support a range of well-designed research methods using a stages-of-research framework. When inviting applications for funding, NIDRR will ask applicants to identify the stage of research appropriate to their proposed research. Specification of the stage of research will allow NIDRR to ensure that proposed research is evaluated by peer reviewers who are knowledgeable about the stage of research and the proposed research methods using appropriate selection criteria. NIDRR will ask applicants to justify the stage of research proposed based on the current state-of-knowledge on the topic as well as the importance of the research questions and appropriateness of the methods proposed to carry out the research. NIDRR's framework will include the following stages of research:

Exploration and Description

Exploration and description have the research objective of generating new and refined analyses of data, observational findings, and other sources of information to establish the circumstances and needs of persons with disabilities and to guide hypotheses and theories. Exploration and description seek to advance the state of knowledge regarding the status of individuals with disabilities and the barriers to and facilitators of improved employment, community living and participation, health and function, and other outcomes for individuals with disabilities. This research stage may include identifying or describing existing policies, practices, or products that are associated with important aspects of the lives and needs of individuals with disabilities or the outcomes of services and supports provided to them. Results achieved under this research objective may be used to inform new lines of research related to practices, programs, or policies to inform decisions or priorities.

Intervention Development

Intervention development has the research objective of generating and testing interventions that have the potential to improve outcomes for individuals with disabilities. Intervention development involves determining the features of possible interventions that are most significant in achieving desired outcomes and the measures that would be required to illustrate those outcomes, specifying target populations, conducting field tests, and assessing the feasibility of conducting a well-designed interventions study. Results from this research objective may be used to inform the design of a study to test the efficacy of an intervention.

Intervention Efficacy

Intervention efficacy has the research objective of evaluating and testing whether an intervention is feasible, is practical, and can yield positive outcomes for individuals with disabilities. Efficacy research may assess the strength of an intervention, identify factors associated with outcomes, and inform decisions about whether there is sufficient evidence to support “scaling-up” an intervention to other sites and contexts. Issues addressed may include training needed for wide-scale implementation and approaches to evaluation of the intervention in real-world applications.

Scale-up Evaluation

Scale-up evaluation has the research objective of evaluating whether interventions are effective in producing improved outcomes for individuals with disabilities when implemented in real-world settings. This research tests the outcomes of evidence-based practices operating in different settings. It examines the challenges to successful replications and the circumstances and activities that contribute to successful wide-scale adoption of interventions, programs, policies, and technologies. Research in this area may also include well-designed studies of interventions that have been widely adopted in practice but lack sufficient evidence of their effectiveness.

Objective 2.2—Develop and adopt a framework for development to support the design, creation, testing, and uptake of assistive technology, engineering, and other products to improve the lives of people with disabilities.

To improve its management of centers and projects that develop methods, procedures, and technologies to maximize inclusion, independence, and self-sufficiency of individuals with disabilities, NIDRR will develop and adopt a framework for development. This framework will contribute to the effective review of applications for funding, assist in describing and monitoring project activities, and support evaluation of the utility and productivity of NIDRR's investment in development projects. This framework will be created, reviewed, and amended, as appropriate, in consultation with individuals with disabilities, rehabilitation engineers and other developers and providers of assistive technology, community rehabilitation and service professionals, and other stakeholders.

Objective 2.3—Support a variety of research methods as appropriate to important topics and research questions.

NIDRR will support quantitative and qualitative research methodologies, as well as research approaches that combine both methodologies. NIDRR will provide guidance on its expectations for the various research methods.

Objective 2.4—Provide for the training of emerging talent and leadership in research and development.

NIDRR will fulfill its statutory obligation to build the Nation's capacity to conduct research and development activities that make positive contributions to the lives of individuals with disabilities across the domains of employment, community living and participation, and health and function. NIDRR's capacity-building activities will include fellowship programs and centers where emerging talent and leadership in research and engineering will be developed. In these capacity-building activities NIDRR will promote opportunities for individuals with disabilities and individuals from minority backgrounds.

Goal 3: Promote the generation and effective use of knowledge in areas of importance to individuals with disabilities and their families.

Objective 3.1—Ensure that NIDRR research centers and projects provide access to, and effective use of, their research.

NIDRR will increase expectations that its research centers and projects provide research-based knowledge and resources to individuals with disabilities and their families, service providers, and policymakers. NIDRR will support training, technical assistance, and knowledge translation activities to enhance the capabilities of individuals with disabilities, researchers, practitioners, and organizations and agencies to use the best available information in order to obtain desired outcomes for individuals with disabilities.

All of NIDRR's centers and projects will carry out knowledge translation (KT) activities. KT promotes the use of research-based knowledge to support the ability of individuals to live successfully in society. KT requires that grantees involve relevant stakeholders in the design and conduct of research activities to optimize the relevance and use of proposed outputs, use tools such as systematic reviews and research synthesis to assess and disseminate the information generated through research, and translate research findings into information that is usable by individuals with disabilities and their families, practitioners, and policymakers.

Objective 3.2—Increase the use of input from stakeholders.

In order to ensure that its centers and projects address important issues affecting individuals with disabilities and their families, NIDRR will develop and implement a process by which NIDRR may continuously communicate with a wide range of stakeholders about NIDRR's activities, solicit feedback on the impact of NIDRR's investments, obtain recommendations for research topics, and gather stakeholder input on NIDRR's Plan.

Rehabilitation Research Advisory Council

As authorized by section 205 of the Act and consistent with a recommendation in the 2012 NAS review report, NIDRR will establish the RRAC. The RRAC will advise NIDRR's Director on research priorities and the need for revisions of the current Plan and on the development of future long-range plans.

Improved Use of Information Technology

NIDRR will continue to upgrade its use of information technology, including its Web site, in order to improve its information dissemination activities, increase its capacity to obtain input and feedback from stakeholders, and facilitate ongoing discussions with and among NIDRR grantees, individuals with disabilities, and other stakeholders.

Objective 3.3—Establish priorities that inform systems and policy development as well as interventions to improve outcomes for individuals.

Across its three domains, NIDRR will support centers and projects that address systems and policy issues as well as interventions that directly improve outcomes for individuals with disabilities and their families.

Objective 3.4—Support topics of relevance that cut across disability categories and NIDRR's three domains.

NIDRR will support important projects that cut across disability categories or domains when such projects are relevant, well-designed, and offer promise of significant benefit to multiple groups of individuals with disabilities and their families. Examples of these cross-cutting priorities will include, but not be limited to, disability demographics and technology for access and function.

Disability Demographics

Valid and reliable demographic data help all agencies and research in the disability field. NIDRR will continue its work with other Federal agencies to meet its statutory mandate to collaborate in producing demographic and statistical data that describe the population of individuals with disabilities. NIDRR's disability demographics effort will generate and disseminate new and current information that can be used by individuals with disabilities, service providers, policymakers, and others working to identify and eliminate disparities in employment, community living and participation, and health and function.

Technology for Access and Function

For individuals with disabilities, technology plays a vital role in improving function and increasing access, thereby enhancing the ability to lead increasingly independent, secure, and productive lives. The importance of accessibility for individuals with disabilities to the existing and emerging technology environments in our homes, schools, jobs, and communities cannot be overstated. At the individual level, NIDRR will focus on assistive technology devices that enhance the physical, sensory, cognitive, and communication capabilities of persons with disabilities, including individuals from low-incidence populations. At the systems level, NIDRR will promote the application of technology research and development in ways that enhance community integration, independence, productivity, competitiveness, and equal opportunity by mitigating or eliminating barriers found in large social systems such as public transportation, telecommunications, information technology, commerce, and the built environment.

NIDRR will continue to support technology-related research and development centers and projects with the goal of transferring technology into products that can be readily accessed and used to improve the lives of individuals with disabilities. NIDRR will continue to play a leadership role within the Federal government on accessibility of information and computer technologies.

Leadership in Cloud Computing

NIDRR is committed to ensuring access to, and benefit from, cloud computing for individuals with disabilities. There is substantial international activity in this area, from which individuals stand to benefit and to which the United States should contribute. NIDRR and its grantees will play leadership roles in national and international activities to ensure accessibility, and to exploit the potential of cloud computing to support the independence, employment, and functional capabilities of persons with disabilities. In its efforts NIDRR will support grantees working on cloud-based infrastructure and applications, and will work cooperatively with government agencies and private entities to leverage all available resources.

Objective 3.5—Maintain ongoing investments that effectively address topics of importance to individuals with disabilities and their families.

NIDRR has invested in a number of projects for many years. The value of these long-term investments is an important consideration as NIDRR plans for its future commitments. For example, NIDRR has supported projects that have created national rehabilitation and disability services databases and that have enhanced accessibility of the built environment and information technologies, as well as other nationally valued projects in other areas. On a project-by-project basis and with the input of the RRAC and other stakeholders, NIDRR will continue to support centers and projects in certain priority areas in which NIDRR has substantial long-term investments and that continue to contribute significantly to NIDRR's goals and objectives.

Goal 4: Improve program administration.

Objective 4.1—Streamline processes for establishing and publishing priorities for grant competitions.

Historically, most of NIDRR's priorities have included a number of detailed required activities that demanded a great deal of time to develop and publish. As indicated in Objective 1.3 of the Plan, NIDRR will provide applicants with more field-initiated opportunities by issuing priorities for each domain that consist of broad topical areas and fewer specifically required activities. These topical areas will remain open for competition for up to five years. This will provide applicants with increased discretion to propose specific projects that fall within the topical areas and enhance NIDRR's ability to publish its funding priorities on a more timely basis. In addition, because NIDRR staff will devote less time to developing and publishing new priorities, they will have more time for providing technical assistance to their grantees, monitoring grants, and participating in cross-agency research and development activities.

Objective 4.2—Establish and implement a regular schedule of competitions and peer reviews.

The NAS/National Research Council review report noted that NIDRR has not established a regular schedule for publishing priorities, publishing notices inviting applications, or conducting peer reviews. An irregular schedule may negatively affect the ability of qualified applicants to submit proposals and limit the availability of expert reviewers. Consistent with the NAS recommendations, and aided by streamlining its priority development process, NIDRR will establish a regular schedule of competitions that potential applicants and peer reviewers can depend on for planning purposes. Having the topical areas in place for up to five years will provide the field with stable and reliable opportunities for funding, and applicants who are not successful in one competition can revise and improve their applications for future competitions under the same topic.

Objective 4.3—Improve the peer review process.

The NAS review report commented on NIDRR's peer review processes and made a number of recommendations for enhancement. Consistent with the NAS recommendations and ongoing quality improvement goals within NIDRR, during the next five years NIDRR will improve the following:

• Recruitment of qualified reviewers.

• Peer reviewer orientation.

• Review criteria and scoring.

• Stakeholder representation and related stakeholder support.

• Consistency across review panels.

A number of other changes will be explored by NIDRR as potential means of enhancing the ability of peer reviewers to carry out their responsibilities. These include, but are not limited to: (1) Establishing page limits for some or all NIDRR program applications; and (2) limiting the number of applications reviewed per panel with limits depending on the page limits of the applications.

V. Summary

With the adoption of this Plan, as refined by comments and suggestions from stakeholders and other parties, NIDRR believes it will be positioned to better promote the principles of balance, quality, and relevance in its activities. This approach will make NIDRR more effective in fulfilling its role as a leading Federal agency in generating and promoting the use of knowledge to improve the lives of individuals with disabilities and their families.

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 1, 2013.
Michael Yudin,
Delegated the authority to perform the functions and duties of Assistant Secretary for Special Education and Rehabilitative Services.

Appendix

Analysis of Comments and Changes

Note: This appendix will not appear in the Code of Federal Regulations.

1. NIDRR's Commitment to Balance

Comments: Three commenters recommended that NIDRR “reconcile” its commitment to maintain investments in effective programs with its commitment to maintain balance in its funding of programs across its three primary domains.

Discussion: We believe both commitments are important and can be maintained with judicious attention to the effectiveness of existing programs and the disparities in resource allocation across domains.

Change: None.

Comments: One commenter noted support for the commitment to a balanced portfolio but challenged NIDRR to remain responsive to the needs of constituents and fluctuations in topics of importance.

Discussion: We are fully committed to supporting programs that are relevant to the current and changing needs of persons with disabilities. When established, Research Advisory Council (RRAC) will represent key stakeholder groups and is expected to assist NIDRR in adhering to that commitment.

Change: None.

Comments: Two commenters asked how balance will be achieved with the increased emphasis on funding field-initiated projects.

Discussion: We believe that NIDRR's broad priority areas and increased emphasis on field-initiated proposals will allow ample opportunity for applicants to propose work of relevance to individuals with disabilities in each of NIDRR's primary domains. If necessary to achieve reasonable balance across domains, NIDRR will fund the highest scoring applications within specific domains.

Change: None.

Comments: One commenter asked whether our commitment to balance includes balance between research and technology development funding.

Discussion: In the Plan NIDRR commits to maintaining balance across its primary domains and to the full range of types and degrees of disability. There is no commitment to maintain a particular distribution between funding for research and technology development projects, but we anticipate no notable deviation from the present distribution. There may be effects in the relative distribution of funding associated with increased opportunities for field-initiated proposals. We will monitor such trends in funding among NIDRR's primary domains, and, as appropriate, we will explore needed remedies with our RRAC, when established.

Change: None.

Comments: Three commenters proposed that NIDRR identify in the Plan its commitment to specific disability conditions or specific demographic groupings. One commenter suggested that we expand our Model Systems program to include a specific disability group.

Discussion: There are too many conditions and potential demographic groupings for us to designate funding for each specific group. We may, based on compelling need or opportunity, designate funding for research or development projects focused on specific groups, but generally applicants with interest in specific disability and demographic groups will be encouraged to submit high-quality, compelling proposals to our various field-initiated competitions. Given currently available funding, a substantial investment in creating and financing additional Model Systems programs would preclude NIDRR from funding other important research and development activities.

Change: None.

Comments: One commenter asked for clarification about whether NIDRR will continue competitions for priority areas that are currently funded or will establish new priorities.

Discussion: In carrying out the Plan, NIDRR may continue current priorities, create new priorities, or both.

Change: None.

2. Stages of Research

Comments: One commenter suggested that we invite interested parties to engage in a facilitated dialogue on the concept of stages of research.

Discussion: We will continue to obtain feedback through our regulatory process. We have already requested public comment on the proposed stages of research in the Federal Register notice requesting comments on the priority for the FY 2012 Employment of Individuals with Disabilities (H133A-1) Disability and Rehabilitation Research Project and sought further comment on the proposed stages of research in some priorities developed for FY 2013 competitions.

Change: None.

Comments: We were asked whether the exploratory stage of research is restricted to descriptive research or whether it can include the study of interventions.

Discussion: In our proposed stages of research, exploratory research is research that can describe or classify a problem through a variety of mechanisms, including but not limited to descriptive research, analysis of secondary data, development of measures, and so forth. This research may result in information that will lead to development of an intervention, or it may advance knowledge or the capacity to conduct research.

Change: None.

Comments: One commenter asked if small, non-randomized trials of interventions could be part of the interventions development stage.

Discussion: It will be up to the applicant to specify and justify what is necessary to develop an intervention. Nothing prohibits an applicant from suggesting a small, non-randomized trial as part of this development process. It will be up to the peer review panel to determine the appropriateness of the proposed methodology for any research study.

Change: None.

Comments: We were asked if scale-up evaluation primarily means moving from a single-center to a multi-center study.

Discussion: The purpose of a scale-up project is to determine if the intervention is effective in real-world settings. This could involve multi-center studies; however, the intent is to determine how best to move proven interventions into widespread practical use.

Change: None.

Comments: One commenter distinguished between normal research, described as testing hypotheses and building evidence in a prescribed method (such as NIDRR's stages of research), and systems research, described as aiming to solve problems right away by adopting “socially valid” solutions. The commenter suggested that solutions of the latter type, having been developed within the context in which they are intended to be applied, do not require a scale-up stage before being implemented broadly.

Discussion: We are aware that other government agencies have promulgated translational research activities that incorporate this approach. In this approach, evidence-based practice for one population may be adapted for use in a new population using established criteria for evaluating the uptake but not following a proscribed and lengthy process for establishing evidence of efficacy for the new population. Since we are not prescribing the steps to accompany each stage, it will be up to applicants to propose and justify the methods proposed for any stage, including the scale-up stage. We would invite, within the scale-up stage, research on the effects of interventions, programs, or policies that are broadly applied, but on which there is inadequate well-designed research.

Change: None.

Comments: One commenter asked if an applicant has to limit its proposal to a single stage.

Discussion: An applicant does not have to limit its proposed efforts to a single stage of research; however, applicants should identify and justify each research stage and should consider time and resources in its decision about work carried out at multiple stages.

Change: None.

Comments: Two commenters asked for clarification about whether the stages of research approach will limit grantees who propose non-intervention research and whether such applicants will be able to obtain fair consideration of their proposals.

Discussion: NIDRR's overall purpose is to support research that results in beneficial changes in programs, policies, and practices affecting the lives of individuals with disabilities. In many ways, these changes are interventions. So at a broad level, the purpose of NIDRR's research is the development of interventions, defined as changes in practices, programs, and policies. In the past, much of NIDRR's funding has been allocated to projects at stages preceding the intervention stage, documenting the conditions and needs of individuals with disabilities and their families and creating the infrastructure to support development of evidence-based changes in programs, policies, and practices. We expect to continue funding projects at theses stages. The purpose of introducing a requirement to identify the proposed research stage is to improve the quality of the research that we fund. It will also help NIDRR clarify and classify the kinds of research it supports and help applicants better justify the topics, research goals, and approaches they propose. We are not seeking to limit applicants from proposing any research that will benefit individuals with disabilities. Nothing in the stages of research approach is designed to favor one type of research over another.

Change: None.

Comments: One commenter asked if activities such as longitudinal data analysis would be considered exploratory even if new knowledge is produced.

Discussion: It will be up to the applicants to determine the stage of their proposed research and to explain why the stage is appropriate to the state of knowledge about the proposed topic. Nothing in our Plan will specify how methods should be used to support stages of research.

Change: None.

Comments: One commenter asked what we are gaining from the stages of research approach and how policy, statistics, and survey research fit into the stages.

Discussion: Through the stages of research framework we gain a way to describe how our research investments are contributing to changes in programs, policies, and practices that improve the lives of individuals with disabilities. We also hope to improve the quality of the research we fund by asking applicants to clarify why the stages proposed are appropriate to the state of knowledge of the topic they are addressing. We are not weighting our research investment in favor of any stage, unless the specific circumstances warrant focus on a particular stage of research.

It will be up to applicants to propose and justify methods to conduct research at any stage of research. We do not intend that identification of stages of research will limit applicants in their methods for conducting studies, and we plan that peer review will determine if the methods are appropriate.

Change: None.

Comments: One commenter suggested that NIDRR is prioritizing interventions research and asked if NIDRR's funding will allow it to support such research.

Discussion: We have articulated our belief that, at a broad level, all of our research is conducted with the goal of creating interventions that support changes in programs, policies, and practices that improve outcomes for individuals with disabilities. We are aware that available funding may not allow for scaling up interventions to a large number of sites; however, we hope to promote and, as feasible, support this critical stage of testing research findings in the real world.

Change: None.

Comments: One commenter asked if NIDRR would consider funding projects that seek to advance methodology as well as service delivery.

Discussion: Nothing in the Plan prohibits any applicant from seeking to advance methodology, and we do not intend to fund only research on service delivery.

Change: None.

Comments: One commenter asked how NIDRR will ensure that panel reviewers understand the stages of research and the variations in applications across disciplines, and whether NIDRR will provide guidelines or templates to reviewers.

Discussion: NIDRR's peer review criteria for research have been and will be applied to all applicants regardless of the academic discipline or perspective of the applicant. Research review criteria will define and support the stages concept generally but will not establish specific standards for any stage. We are developing new peer reviewer training materials and will incorporate the stages of research approach.

Change: None.

Comments: One commenter recommended that NIDRR incorporate the stages of research approach into its priority setting process for center grants.

Discussion: We assume that this commenter was referring to the Rehabilitation Research and Training Centers (RRTCs) and the Rehabilitation Engineering Research Centers (RERCs). NIDRR will ask center applicants to use the proposed stages of research framework to explain their proposed research. We may also require this framework in applications for non-center grants such as DRRPs and other research programs.

Change: None.

Comments: One commenter expressed concern that the stages of research approach could stifle innovation and be applied in a formulaic manner. This commenter suggested that NIDRR have an ongoing role in implementing, and in training researchers on, the stages of research framework.

Discussion: We see no circumstances in which the stages of research could in any way diminish innovation, but we do agree that ongoing discussion and training on the stages of research framework and the wide diversity of research methods and topics that can be subsumed within them will be helpful.

Change: None.

3. Low-Incidence Populations

Comments: One commenter recommended that NIDRR-funded centers and projects enter into partnerships with entities that have expertise in the needs of low-incidence populations to address policy and systems implications for these populations.

Discussion: In the Plan's knowledge translation (KT) requirements, we recognize the need for all NIDRR-funded centers and projects to involve relevant stakeholders. As stated in Objective 3.1, all of NIDRR's centers and projects will carry out KT activities, and a key component of KT is requiring grantees to involve relevant stakeholders in the design and conduct of research activities to optimize the relevance and use of proposed outputs. We believe that this expectation will encourage researchers to engage in partnerships with individuals and entities with appropriate expertise related to important target populations, including persons with low-incidence conditions.

Change: None.

Comments: Two commenters recommended that one or more of NIDRR's programs address the needs of a wide variety of disabilities, including low-incidence disabilities.

Discussion: The Plan's introduction discusses how NIDRR fulfills its mission through research, development, and dissemination and related activities that contribute to the independence, inclusion, employment, and health and function of individuals of all ages and degrees of disability, including low-incidence disabilities. NIDRR recognizes the importance of research on low-incidence disabilities. While in the past NIDRR priorities may have specified target populations, its new, more field-initiated approach, as discussed in the Plan, will increase opportunities for researchers to target specific low-incidence populations.

Change: The Plan's description of the field-initiated process now indicates that these projects may choose to focus on specific disability populations, including low-incidence populations.

4. Applicability of Knowledge Translation Activities

Comments: Three commenters questioned the applicability of the KT activities described in the Plan to all NIDRR-funded projects. One of these commenters also suggested that NIDRR provide additional guidelines to applicants and peer reviewers about how different types of KT would apply to different types of projects.

Discussion: Our descriptions of KT activities are intentionally general and broad. We expect applicants to select and justify their specific KT activities based on the nature of their project and the associated stakeholder groups. We are confident that NIDRR peer reviewers will be able to discern whether the proposed KT activities will be beneficial and productive uses of resources to meet the needs and expectations of stakeholders.

Change: None.

5. Design or Effectiveness of Specific NIDRR “Capacity-building” Programs

Comments: One commenter questioned whether there is a requirement that centers be based at a university and expressed a concern that this would be a barrier to broad dissemination of RRTCs.

Discussion: There is no requirement in the Plan that RRTCs be based at universities. In fact, such a requirement would be inconsistent with 34 CFR 350.21, which requires an RRTC to be operated by or in conjunction with (a) one or more institutions of higher education; or (b) one or more providers of rehabilitation or other appropriate services. The same flexible collaboration requirement also applies to RERCs.

Change: None.

Comments: One commenter asked how NIDRR will link stages of research to its investment in capacity building.

Discussion: At the present time, NIDRR's investments in capacity building are field-initiated in nature, meaning that applicants propose and justify capacity-building activities in response to regulatory requirements rather than in response to NIDRR-developed priorities. NIDRR has no plans to change this at the present time, but could propose more directed capacity building if deemed necessary. We expect that our focus on stages of research will result in changes in the types if research that our grantees carry out and that this will help contribute to increased capacity in the field to carry out research at all stages.

Change: None.

Comments: One commenter noted that the proposed Plan contains no reference to the July 2011 NIDRR-sponsored Research Capacity-Building Summit and asks how NIDRR proposes to further the summit recommendations related to development of young investigators, especially individuals from minority serving institutions and individuals with disabilities

Discussion: The commenter is correct. The Plan does not specifically refer to research capacity building or to the results of the July 2011 summit nor to other NIDRR-sponsored events, conferences, or activities. The Plan does state in the background section that “NIDRR is committed to maintaining its focus on practical applications of research, development, knowledge translation, capacity building, technical assistance, and information dissemination to improve the lives of individuals with disabilities and their families,” However, it may not fully clarify NIDRR's goal of enhancing capacity to conduct disability and rehabilitation research, including its focus on capacity building for minority-serving institutions and individuals with disabilities.

Change: A new Objective 2.4 was added: NIDRR will provide for the training of emerging talent and leadership in research and development. The objective indicates a special commitment to support the development of individuals with disabilities and individuals from minority backgrounds.

Comments: One commenter asked if NIDRR will consider funding mechanisms that promote new investigators.

Discussion: We agree that promoting new investigators is important to the future of rehabilitation and disability research. However, NIDRR already employs two grant mechanisms with the expressed purpose of providing research training to qualified individuals, including new investigators—the Advanced Rehabilitation Research Training (ARRT) Projects and the Switzer Research Fellowship Program. NIDRR also provides funding for practical research training of hundreds of graduate students and post-doctoral fellows participating in its other programs.

Change: None.

Comments: One commenter suggested a review of the Switzer Research Fellowship Program to assess the current need for the program and how it might better meet the needs of research professionals.

Discussion: We agree that it is important for NIDRR to conduct periodic assessments of its various programs. NIDRR is currently developing a long-term evaluation plan that will include recommendations for evaluating NIDRR programs, including the Switzer Research Fellowship Program. In addition, we also anticipate that, when formed, the RRAC will advise NIDRR on the relative value of its various programs, including the Switzer Research Fellowship Program.

Change: None.

6. Improve Peer Review Process

Comments: Comments on peer review either provided specific recommendations for improving the peer review process or asked about specific methods for improving the peer review process. Two commenters asked whether NIDRR would implement standing panels of reviewers, while another asked more specifically whether standing panels would be created around research stages or domains. One commenter suggested that NIDRR does not often recruit new reviewers onto its review panels and that it should do so more often. Another commenter requested that NIDRR provide additional training to reviewers to improve the feedback that they provide to applicants. One of the commenters asked specifically how we would recruit reviewers with engineering expertise or those with expertise in implementing the outputs and products of NIDRR's grants.

Discussion: NIDRR understands the importance of the peer review process. We appreciate the commenters' questions and their recommendations for optimizing the quality of our peer review process. NIDRR currently maintains a standing panel for its Field-Initiated Projects (FIPs) program. We anticipate that, as we create more opportunities for applicants to submit proposals in response to field-initiated research and development priorities, we may be able to create standing panels of reviewers to evaluate these applications. At the same time, NIDRR continuously and actively recruits new, highly-qualified reviewers into its reviewer pool and onto its review panels. The Department's policy of allowing reviewers to serve on standing panels for no more than three consecutive years promotes an effective mix of experienced reviewers and those with fresh perspectives. NIDRR will determine how we structure the specific expertise on our panels as we develop and publish our priorities in the coming years. Regarding training of peer reviewers, NIDRR is creating Web-based training tools to improve the quality and consistency of training that NIDRR peer reviewers receive.

Change: None.

7. Rehabilitation Research Advisory Council

Comments: One commenter asked about the relationship between NIDRR's approach to knowledge translation and the role of the RRAC. Another commenter asked how members of the RRAC will be selected—whether members will be chosen to represent NIDRR's project areas or primary research and development domains, or whether members will be selected to represent specific disability types. In addition, this commenter asked how NIDRR will structure the RRAC's membership to avoid neglect of underserved communities.

Discussion: We view the RRAC as consistent with, and as a contributor to, our KT efforts. A key aspect of KT is to engage stakeholders in defining the focus of research and to create methods and products of research dissemination that are appropriately designed and accessible for those who can improve the lives of people with disabilities. This will be a central role of the RRAC when formed.

The primary goals of the RRAC will be to direct attention to the most pressing problems facing persons with disabilities collectively or within specific subpopulations, to establish research and development priorities that address those problems, and to support effective methods of getting research and development products to people with disabilities and other stakeholders. To do this, we will endeavor to have balanced representation on the RRAC of subpopulations of persons with disabilities and their families, service providers, policymakers, and individuals with expertise in research, product development, and information dissemination. Members will include representatives of underserved and relatively low-incidence disability communities.

Change: None.

Comments: One commenter asked how the RRAC will work with NIDRR leadership.

Discussion: The RRAC will be advisory in its role. We intend to listen carefully to the advice of the RRAC and expect to be well guided by it. Ultimately, however, after weighing its advice, as well as input from people with disabilities and other stakeholders and NIDRR's own assessment of the state-of-the-science, NIDRR will be responsible for the content, balance, and quality of its programs.

Change: None.

Comments: Two commenters asked how transparent the RRAC will be and to what extent members would communicate with their constituencies.

Discussion: We will gather and make available notes from RRAC meetings, but, to facilitate frank and open discussions, no attributions to individual members will be made. RRAC members will be free, and indeed encouraged, to communicate with their constituencies about RRAC discussions and recommendations, NIDRR priorities, and the accomplishments of NIDRR programs and projects.

Change: None.

Comments: One commenter recommended that the RRAC include members with expertise in the Americans with Disabilities Act (ADA) and other disability law.

Discussion: While it is not clear in the commenter's assessment what might constitute ADA or disability law expertise, the RRAC will assuredly include persons very familiar with the ADA and its significance to NIDRR-funded research and development.

Change: None.

Comments: One commenter suggested that the RRAC coordinate with other Federal agencies on disability and rehabilitation research.

Discussion: We believe this suggestion extends beyond what we can reasonably require of the RRAC and its members. Currently NIDRR coordinates the Interagency Committee on Disability Research (ICDR), as authorized by 29 U.S.C. 763, and is responsible for promoting interagency coordination of, and collaboration on, research related to the rehabilitation of individuals with disabilities. We are committed to active engagement and coordination with other Federal agencies and will provide the RRAC with information regarding such activities and will solicit advice from the RRAC regarding current and potential collaborations. If RRAC members so elect, we are open to including Federal agency representatives at RRAC meetings as ex-officio members or invited participants. This decision will be left to the RRAC and its judgment about what will promote the most productive discussions.

Change: None.

Comments: One commenter asked for assurances that the RRAC will include appropriate advisors, including assistive technology providers, engineers, manufacturers, and distributors of assistive technologies.

Discussion: We envision a relatively small, but very well-informed RRAC, the size of which would preclude representation of all such important players in the development, marketing, and effective use of assistive technology. We will do our best to ensure that RRAC membership has a sophistication about and appreciation of assistive technology development and use.

Change: None.

Comments: One commenter asked how representatives will be chosen and, once chosen, whether information on each individual's background and credentials will be made public. Other commenters offered to serve as or suggest members to the RRAC.

Discussion: Requests for nominations (including self-nominations) to the RRAC will be published in the Federal Register. Once nominations have closed, we will select members from among nominees based on distribution of knowledge across disability populations; familiarity with the challenges faced by all or subpopulations of persons with disabilities; familiarity with disability research, development, and policy; and direct experience with the lived experiences of persons with disabilities. Once chosen, the RRAC members, their qualifications, and ways that they can be contacted will be publicly available.

Change: None.

8. NIDRR Capacity To Monitor the Quality of Its Research

Comments: Two comments addressed the extent to which NIDRR's commitment to high-quality research included support of project officers in monitoring and evaluating the post-award research projects and the extent to which NIDRR will invest in project officer development to improve guidance and evaluation of grantees.

Discussion: NIDRR has always emphasized the importance of monitoring, and providing guidance and technical assistance to, its grantees. We have invested substantially in a database that effectively monitors project tasks, timelines, and product delivery. Our staff is well trained and qualified to monitor, evaluate, and provide needed technical assistance to grantees. We invest as we can in staff development in areas of topical expertise and maximize the advantages of being in Washington, DC and its many professional development opportunities. We recognize the demands of project monitoring are substantial. We believe that moving a greater share of our research and development portfolio into field-initiated grant programs will allow our project officers to spend less time writing NIDRR-directed priorities, and more time monitoring, evaluating, and interacting with their grantees.

Change: None.

9. Evaluation of Plan Goals and Objectives

Comments: Two commenters suggested that NIDRR define the specific outcomes expected to result from the Plan, including measures of quality, and prepare an evaluation plan that describes how these outcomes will be monitored over time.

Discussion: We agree that we must gather, analyze, and publicize the outcomes of NIDRR programs and pay particular attention to outcomes specifically referenced in the Plan. This work is underway. We have derived a core set of evaluation measures from our electronic Annual Performance Reporting (APR) database to which all grantees submit data annually. The APR gathers specific information on the status of each NIDRR-funded project, as well as data directly relevant to Plan objectives. For example, the APR collects data to monitor balance across our three primary domains and broad disability groupings by research methodologies employed and the distribution of funding levels and types of projects. The APR also gathers annual reports on outputs and impacts, ranging from articles in peer-reviewed journals, citations of NIDRR-funded research in peer-reviewed journals, technologies developed, graduate-school and post-doctoral researchers trained, and the nature and extent of adoption of research and development products. In addition, we are currently developing a 10-year evaluation plan to assess the quality and quantity of NIDRR outputs, outcomes, and impacts related to our long-range objectives. The evaluation plan will include a variety of data collection activities of different periodicities to be carried out over a 10-year cycle.

Change: None.

10. Specific Research Suggestions

Comments: Commenters suggested that NIDRR ensure that the research it funds addresses various financial, cultural, psychological, socioeconomic, geographic, and other factors affecting persons with disabilities in each of NIDRR's primary domains. Commenters further suggested that the Plan would be strengthened by emphasizing the interconnections of the individuals' biological and psychological well-being and their social and economic circumstances. Commenters further suggested that we be clear that the health and function domain includes mental health as well as physical health, that medical rehabilitation includes cognitive rehabilitation, and that we make other clarifications to avoid overly narrow interpretations of NIDRR domains.

Discussion: We have purposely avoided listing the full range of impairments and the complex interpersonal and external factors in the lives of persons with disabilities and the interactions among them. We believe that trying to do so would diminish our focus on clear, relevant, and scientifically-sound cases for proposed research that will be important to specified populations of persons with disabilities. We are confident that our peer reviewers will understand the importance of the variety of factors and interactions described in the comment and will make recommendations for funding based on the adequacy of the proposed research to appropriately address both individual and environmental factors.

Change: None.

11. Attention in Plan to Engineering and Assistive Technology Development

Comments: Nine commenters expressed concern that the Plan inadequately reflects NIDRR's commitment to engineering and assistive technology development because it does not mention “development” as clearly and frequently as “research.”

Discussion: We remain fully committed to engineering and assistive technology development, including through our RERC program, but we recognize that our Plan may have inadequately communicated that commitment.

Change: We have clarified NIDRR's commitment to engineering and assistive technology throughout the document with specific references to “research and development” and in our responses to the related comments that follow.

Comments: Three commenters suggested that NIDRR should include in the Plan a “stages of development” framework parallel to the “stages of research” framework to demonstrate NIDRR's commitment to development projects and to guide the applications of those who propose development projects.

Discussion: NIDRR agrees with this comment.

Change: In our discussion in Objective 2.2—Develop and adopt a framework for development to support the design, creation, testing, and uptake of assistive technology, engineering, and other products to improve the lives of people with disabilities, we have stated our intention to work with stakeholders to develop and adopt a framework for development projects.

Comments: Two commenters suggested that NIDRR explicitly recognize the importance of assistive technology for addressing communication impairments, including communication impairments of individuals with low-incidence conditions.

Discussion: We agree that such specification is warranted.

Change: The Technology for Access and Function section of the Plan has been revised to recognize the importance of assistive technology that enhances communication capabilities, including for individuals from low-incidence populations.

Comments: One commenter recommended that the term “universal design” be referenced in multiple places in the Plan.

Discussion: We are committed to the concept of universal design, that is, the design of products and environments to be useable by all people without the need for adaptations or special design. We are proud of NIDRR's foundational work in the development and implementation of the concept of universal design. We do not, however, believe that the concept needs to be repeated throughout the Plan.

Change: None.

Comments: One commenter recommended that NIDRR expand its description of its Small Business Innovation Research (SBIR) program to be more inclusive of research related to training methodologies and dissemination techniques.

Discussion: We agree that, as written in the proposed Plan, the SBIR program may seem limited to the production of assistive and rehabilitation technologies. However, NIDRR's SBIR program grants have been and are awarded for projects that (1) Meet NIDRR's broad definition of research and development, (2) appear to have commercial potential, and (3) are related to disability and rehabilitation. We do not think it is advisable to potentially narrow NIDRR's broad definition of research and development by enumerating specific categories of permitted research.

Change: The Plan language concerning the SBIR program has been modified to indicate that “SBIR grants support the design and production of new assistive and rehabilitation technologies, including research, development, training, and dissemination products with commercial potential and benefit to persons with disabilities.”

Comments: One commenter recommended that NIDRR expressly acknowledge that individuals with disabilities interact with several environments, including specifically and increasingly a technological environment.

Discussion: We agree. Technology advances and changes at great speed and must be kept accessible and usable by all individuals. Increasingly people with disabilities interact in physical, social, and technological environments.

Change: The Technology for Access and Function section of the Plan has been revised to reflect the importance of the technology environment with which persons with disabilities interact. Specifically, and as discussed in prior, related comments, an objective for creating and adopting a framework for technology development has been added to the Plan. Further, the relevant sentence in the Technology for Access and Function section has been rewritten to provide that NIDRR will focus on assistive technology devices that enhance the physical, sensory, cognitive, and communication capabilities of individuals with disabilities.

Comments: One commenter asked why we do not express intent to engage manufacturers and clinicians who are responsible for delivering interventions to the target audiences through commercial market mechanisms.

Discussion: We believe this is inherent to the development process and will be conveyed through the proposed “stages of development” framework.

Change: None.

12. Products and Industry

Comments: One commenter expressed concern about the lack of mention of “products” and “industry” (along with “policies” and “practices”) in the Plan's introduction.

Discussion: We agree that including the word “products” will make the statement more comprehensive and better represent NIDRR's intent. We do not believe that “industry” warrants inclusion as we did not intend to list the parties involved in the development of such policies, practices, and products.

Change: The final paragraph in the Introduction to the Plan was revised to read: “NIDRR's portfolio of research and development activities will range from the identification of the needs and opportunities of individuals with disabilities to the widespread implementation of effective, evidence-based policies, practices, and products that respond to those needs and opportunities. NIDRR recognizes that the development of effective, evidence-based policies, practices, and products is as dependent on the exploration and description stage of research and development as it is on experimental and quasi-experimental trials and other well-designed tests of potentially effective interventions, programs, and products.”

13. Primary Domains of Focus

Comments: There were two comments suggesting that, by focusing on topical domains, NIDRR “obscures the specificity of needs within each disability group” and that RRTCs should focus on specific disability populations rather than on broad domains.

Discussion: We understand this concern, particularly among those stakeholders focused on certain specific conditions. Many RRTCs are focused on an intersection of broad disability category (e.g., psychiatric, cognitive/developmental, physical, or sensory impairments) and one of our primary domains (e.g., an RRTC on employment of persons with psychiatric disability). We understand that the commenters might not view a distinction such as physical disability as sufficiently precise to capture the “specificity of needs” of all persons who might have one of many different conditions or impairments causing physical disability. Funding limitations simply preclude NIDRR from paying specific attention to many impairments and conditions that might benefit from designated RRTCs. We have committed to expanding funding of field-initiated programs to allow applicants to make a case for the value of programs in one or more domains that would focus on the specific needs of subpopulations within broad categories such as physical disability. We feel that there is sufficient flexibility within our broad domains for applicants to address the needs of subpopulations with specific disabilities or to attend to specific subtopics within the broader domains. The peer review process will assess the value of these proposals. We are concerned that efforts to further specify populations and topics of interest would only reduce perceived opportunities for applicants to propose well-designed and innovative projects that address the wide variety of potential subtopics and subpopulations.

Change: None.

Comments: One commenter noted that we did not provide a rationale for the ordering of domains, specifically that employment was listed first, followed by community living and participation and then health and function. In the commenter's judgment, health and function should be listed first because it is relevant to all persons with disabilities, while the others pertain to a subset.

Discussion: We mean to convey no priority with regard to the ordering of NIDRR's three primary domains. We are also committed to the proposition that employment and community living and participation will someday, with the assistance of sound research, not pertain to just a subset of persons with disabilities.

Change: None.

Comments: One commenter noted that the Plan regards research on health and function as critical to well-being across the lifespan, but it does not define lifespan.

Discussion: We intended “across the lifespan” to mean for persons of all ages. We believe that lifespan issues may be studied cross-sectionally (health issues tend to be different for people of different ages and with different disabilities) and they may be studied longitudinally (an individual's health issues change over time but may be affected by lifestyle and directed interventions). We would welcome well-designed research and development projects with either (or another) focus.

Change: None.

Comments: One commenter suggested that community living and participation as a domain does not sufficiently reflect the importance of social relationships.

Discussion: We are committed to people with disabilities being both in the community and part of the community. We welcome applications that design and evaluate interventions that go beyond physical integration to achieving social inclusion and interpersonal relationships.

Change: None.

14. Centers of Excellence

Comments: Two commenters asked for clarification of the expectations about the concept of “Centers of Excellence.”

Discussion: “Centers of National Excellence” is a term that was added to the description of RRTCs by Congress in the last reauthorization of NIDRR. RRTCs, as Centers of Excellence, are expected to serve as “national resource centers” for the topics and populations they address. We agree with the commenter that introduction of the new term “Centers of Excellence” to describe RRTCs is unnecessarily confusing.

Change: In the RRTC criteria, we will continue to require that RRTCs serve as “national resource centers” and continue to expect excellence from them, but we will eliminate the designation of “Centers of Excellence.”

15. Types of Programs Within the NIDRR Portfolio

Comments: Two commenters indicated that the information about the types of programs that are administered by NIDRR is not clear.

Discussion: NIDRR's programs are designated in its authorizing legislation located in sections 200 through 205 of the Rehabilitation Act, as amended. We manage these programs in a manner consistent with the authorizing statute, regulations established in 34 CFR parts 350 through 359, and annual appropriations bills.

Change: None.

[FR Doc. 2013-07879 Filed 4-3-13; 8:45 am]

BILLING CODE 4000-01-P